DEPARTMENT OF ENERGY

Federal Energy Regulatory Commission

[Docket No. EG10-25-000; EG10-26-000; EG10-27-000; EG10-28-000; EG10-29-000; EG10-30-000; EG10-31-000; EG10-31-000; EG10-32-000; EG10-33-000; EG10-34-000; EG10-34-000; EG10-35-000; EG10-36-000; EG10-37-000; EG10-38-000]

Cedro Hill Wind LLC; Butler Ridge Wind Energy Center, LLC; High Majestic Wind Energy Center, LLC; Wessington Wind Energy Center, LLC; Juniper Canyon Wind Power LLC; Loraine Windpark Project, LLC; White Oak Energy LLC; Meadow Lake Wind Farm III LLC; Meadow Lake Wind Farm IV LLC; Blackstone Wind Farm II LLC; Otay Acquisition Company, LLC; TX Solar I LLC; CalRENEW-1 LLC; Notice of Effectiveness of Exempt Wholesale Generator Status

July 29, 2010.

Take notice that during the month of June 2010, the status of the above-captioned entities as Exempt Wholesale Generators became effective by operation of the Commission's regulations, 18 CFR 366.7(a).

Kimberly D. Bose,
Secretary.

[FR Doc. 2010-19228 Filed 8-4-10; 8:45 am]

BILLING CODE 6717-01-P